DEPARTMENT OF ENERGY

Federal Energy Regulatory Commission

[Docket No. CP18-26-000]

Notice of Schedule for Environmental Review of the Lambertville East Expansion Project: Texas Eastern Transmission, LP

May 18, 2018.

On December 7, 2017, Texas Eastern Transmission, LP (Texas Eastern) filed an application in Docket No. CP18-26-000 requesting a Certificate of Public Convenience and Necessity pursuant to sections 7(b) and 7(c) of the Natural Gas Act to abandon, construct, and operate certain natural gas pipeline facilities at its existing Lambertville Compressor Station in Hunterdon County, New Jersey. The proposed project is known as the Lambertville East Expansion Project (Project), and would provide about 60 million cubic feet of natural gas per day of incremental pipeline transportation service to existing city gates in New Jersey.

On December 20, 2017, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—July 24, 2018

90-day Federal Authorization Decision Deadline—October 22, 2018

If a schedule change becomes necessary, additional notice will be provided so that the relevant agencies are kept informed of the Project's progress.

Project Description

Texas Eastern proposes to abandon by removal two 5,000 horsepower natural gas-fired turbine compressor units and appurtenant facilities, and replace these units with two new 8,600 horsepower natural gas-fired turbine compressor units and appurtenant facilities at its existing Lambertville Compressor Station in Hunterdon County, New Jersey. In addition to the incremental pipeline transportation service, the Project is also proposed to comply with new air emissions regulations under the New Jersey Reasonably Achievable Control Technology program.

Background

On January 10, 2018, the Commission issued a Notice of Intent to Prepare an Environmental Assessment for the Proposed Lambertville East Expansion Project and Request for Comments on Environmental Issues (NOI). The NOI was sent to affected landowners; federal, state, and local government agencies; elected officials; Native American tribes; other interested parties; and local libraries and newspapers. In response to the NOI, the Commission received comments from the U.S. Environmental Protection Agency (EPA), the Township of West Amwell, and seven residents. The EPA commented that the EA should include a full discussion of purpose and need of the Project; an evaluation of alternatives; a general conformity applicability analysis; and an analysis of cumulative, indirect, and secondary impacts, and environmental justice. The Township of West Amwell expressed Project concerns about increases in toxic air emissions and pollutants and impacts on residents from construction and operation of the compressor station. The seven residents also expressed Project concerns about the following:

• Impacts on air quality, nearby high consequence areas, and health;

• compressor type and size;

• effects on local communities, nearby properties, and property rights and values;

• direct harm to commercial, cultural, and historical interests and open space;

• water quality impacts;

• contaminated groundwater and soil;

• traffic impacts;

• impacts on tourism; and

• effects on quality of life.

All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP18-26), and follow the instructions. For assistance with access to eLibrary, the helpline can be reached at (866) 208-3676, TTY (202) 502-8659, or at FERCOnlineSupport@ferc.gov. The eLibrary link on the FERC website also provides access to the texts of formal documents issued by the Commission, such as orders, notices, and rulemakings.

Kimberly D. Bose,
Secretary.

[FR Doc. 2018-11178 Filed 5-23-18; 8:45 am]

BILLING CODE 6717-01-P